DEPARTMENT OF COMMERCE

National Oceanic and Atmospheric Administration

RIN 0648-XA713

Endangered Species; File No. 16482-01

AGENCY: National Marine Fisheries Service (NMFS), National Oceanic and Atmospheric Administration (NOAA), Commerce.

ACTION: Notice; receipt of application for permit modification.

SUMMARY: Notice is hereby given that the Warnell School of Forest Resources, Fisheries Division, University of Georgia, Athens, Georgia 30602 [Douglas Peterson: Responsible Party], has applied in due form for a permit modification to take Atlantic sturgeon (Acipenser oxyrinchus oxyrinchus) and shortnose sturgeon (Acipenser brevirostrum) for purposes of scientific research.

DATES: Written, telefaxed, or email comments must be received on or before December 9, 2013.

ADDRESSES: The application and related documents are available for review by selecting “Records Open for Public Comment” from the Features box on the Applications and Permits for Protected Species (APPS) home page, https://apps.nmfs.noaa.gov, and then selecting File No. 16482-01 from the list of available applications.

These documents are also available upon written request or by appointment in the following offices:

• Permits and Conservation Division, Office of Protected Resources, NMFS, 1315 East-West Highway, Room 13705, Silver Spring, MD 20910; phone (301) 427-8401; fax (301) 713-0376; and

• Southeast Region, NMFS, 263 13th Avenue South, Saint Petersburg, Florida 33701; phone (727) 824-5312; fax (727) 824-5309.

Written comments on either application should be submitted to the Chief, Permits and Conservation Division

• By email to NMFS.Pr1Comments@noaa.gov (include the File No. in the subject line of the email);

• By facsimile to (301) 713-0376; or

• At the address listed above.

Those individuals requesting a public hearing should submit a written request to the Chief, Permits and Conservation Division at the address listed above. The request should set forth the specific reasons why a hearing on the application would be appropriate.

FOR FURTHER INFORMATION CONTACT: Malcolm Mohead at (301) 427-8401.

SUPPLEMENTARY INFORMATION: The subject permit modification is requested under the authority of the Endangered Species Act of 1973, as amended (ESA; 16 U.S.C. 1531 et seq.), and the regulations governing the taking, importing, and exporting of endangered and threatened species (50 CFR parts 222-226).

Permit No. 16482 was issued April 6, 2012 (77 FR 21754) to the Permit Holder listed above to capture Atlantic sturgeon life stages in the Savannah (SC/GA), Ogeechee (GA), Altamaha (GA), Satilla (GA), and Saint Marys (GA/FL) Rivers using gill nets and trammel nets to measure, weigh, photograph, PIT and Floy tag, and tissue sample. Subsets are anesthetized, fin ray sectioned, laparoscoped, and implanted with an internal acoustic tag. Incidental mortality of serious harm to five juvenile and sub-adults or one adult annually is authorized. The Permit Holder is also authorized to sample Atlantic sturgeon early life stages (ELS) in suspected spawning areas using egg mats. The Permit Holder now requests consolidating the existing takes of shortnose sturgeon authorized in a separate Permit No 14394 in the Altamaha River (GA) into the current modification, and subsequently terminating Permit No. 14394. Additionally, the Permit Holder proposes new takes of shortnose sturgeon from the Savannah, Ogeechee, Satilla River (GA), Saint Marys Rivers (GA/FL) and Saint Johns and Nassau Rivers (FL); and new takes of Atlantic sturgeon from the Nassau and Saint Johns Rivers (FL) using identical methods described for Atlantic sturgeon. One additional procedure is requested not permitted in prior permits: the Permit Holder requests sampling blood from subsets of captured Atlantic and shortnose sturgeon from the Altamaha River (GA). Incidental mortality of two juvenile or adult shortnose sturgeon would be authorized annually from all river systems, as well sampling of shortnose sturgeon ELS in suspected spawning areas. The modification would be valid through the expiration date of the original permit on April 5, 2017.

Dated: November 4, 2013.
P. Michael Payne,
Chief, Permits and Conservation Division, Office of Protected Resources, National Marine Fisheries Service.

[FR Doc. 2013-26727 Filed 11-6-13; 8:45 am]

BILLING CODE 3510-22-P